CORPORATION FOR NATIONAL AND COMMUNITY SERVICE

Sunshine Act Notice

The Board of Directors of the Corporation for National and Community Service gives notice of the following meeting:

Date and Time: Tuesday, May 20, 2008, 4 p.m.-5:30 p.m.

Place : Corporation for National and Community Service; 8th Floor; 1201 New York Avenue, NW., Washington, DC 20525.

Status: Open.

Matters To Be Considered:

I. Chair's Opening Comments

II. Consideration of Previous Meetings Minutes

III. CEO Report

IV. Committee Reports

• MAG Committee

• Program Committee

• Strategic Partnerships Committee

V. Impact of AmeriCorps Week and the Longitudinal Study

Presentation by Millicent Williams, Executive Director, Serve DC and Sally Prouty, President and CEO of The Corps Network

VI. Public Comments

Accomodations: Anyone who needs an interpreter or other accommodation should notify the Corporation's contact person by 5 p.m. on Monday, May 19, 2008.

FOR MORE INFORMATION CONTACT: Lisa Guccione, Office of the CEO, Corporation for National and Community Service, 10th Floor, Room 10207, 1201 New York Avenue, NW., Washington, DC 20525. Phone (202) 606-6637. Fax (202) 606-3460. TDD: (202) 606-3472. E-mail: lguccione@cns.gov.

Dated: May 13, 2008.
Frank R. Trinity,
General Counsel.

[FR Doc. 08-1269 Filed 5-13-08; 4:33 pm]

BILLING CODE 6050-$$-P